DEPARTMENT OF TRANSPORTATION

Federal Aviation Administration

14 CFR Part 39

[Docket No. FAA-2019-0444; Product Identifier 2019-NM-028-AD; Amendment 39-19756; AD 2019-20-03]

RIN 2120-AA64

Airworthiness Directives; Various Transport Airplanes

AGENCY: Federal Aviation Administration (FAA), Department of Transportation (DOT).

ACTION: Final rule.

SUMMARY: The FAA is adopting a new airworthiness directive (AD) for various transport airplanes. This AD was prompted by reports of smoke and fumes in the flight deck. This AD requires modification of certain universal serial bus (USB) receptacles located in the flight deck. The FAA is issuing this AD to address the unsafe condition on these products.

DATES: This AD is effective November 19, 2019.

The Director of the Federal Register approved the incorporation by reference of certain publications listed in this AD as of November 15, 2019.

ADDRESSES: For service information identified in this final rule, contact Fokker Services B.V., Technical Services Dept., P.O. Box 1357, 2130 EL Hoofddorp, the Netherlands; telephone +31 (0)88-6280-350; fax +31 (0)88-6280-111; email technicalservices@fokker.com; internet http://www.myfokkerfleet.com. You may view this service information at the FAA, Transport Standards Branch, 2200 South 216th St., Des Moines, WA. For information on the availability of this material at the FAA, call 206-231-3195. It is also available on the internet at http://www.regulations.gov by searching for and locating Docket No. FAA-2019-0444.

Examining the AD Docket

You may examine the AD docket on the internet at http://www.regulations.gov by searching for and locating Docket No. FAA-2019-0444; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

The European Aviation Safety Agency (EASA), which is the Technical Agent for the Member States of the European Union, has issued EASA AD 2018-0259R1, dated February 7, 2019 (“EASA AD 2018-0259R1”) (also referred to as the Mandatory Continuing Airworthiness Information, or “the MCAI”), to correct an unsafe condition for the following airplanes on which certain USB receptacles were installed using certain Fokker service information:

• Fokker Services B.V. Model F.27 Mark 050 airplanes.

• Fokker Services B.V. Model F28 Mark 3000 airplanes.

• Fokker Services B.V. Model F28 Mark 0070 and Mark 0100 airplanes.

• Airbus SAS Model A318-111 airplanes.

• Airbus SAS Model A319-111, -112, -114, -115, and -132 airplanes.

• Airbus SAS Model A320-211, -212, -214, -231, -232, and -251N airplanes.

• Airbus SAS Model A321-211, -231, -232, -251N and -253N airplanes.

• Airbus SAS Model A330-202, -223, -243, -322 and -343 airplanes.

• Airbus SAS Model A340-312 and -313 airplanes.

• ATR—GIE Avions de Transport Régional Model ATR42-500 airplanes.

• ATR—GIE Avions de Transport Régional Model ATR72-212 and -212A airplanes.

• The Boeing Company Model 737-300, -400, -500, -700, -800 and -900ER series airplanes.

• The Boeing Company Model 757-200 series airplanes.

• The Boeing Company Model 767-200 and -300 series airplanes.

• The Boeing Company Model 777-200LR series airplanes.

• Bombardier, Inc., Model CL-600-2B16 (601-3A, 601-3R, and 604 Variants) airplanes.

• Bombardier, Inc., Model CL-600-2C10 (Regional Jet Series 700, 701 & 702) airplanes.

• Bombardier, Inc., Model DHC-8-202, -311, -315 and -402 airplanes.

The FAA issued a notice of proposed rulemaking (NPRM) to amend 14 CFR part 39 by adding an AD that would apply to various transport airplanes. The NPRM published in the Federal Register on June 24, 2019 (84 FR 29414). The NPRM was prompted by reports of smoke and fumes in the flight deck due to overheating of an Electronic Flight Bag (EFB) USB receptacle. The NPRM proposed to require modification of certain USB receptacles located in the flight deck.

The FAA is issuing this AD to address smoke and fumes in the flight deck, which could result in excessive flightcrew workload and injury to flight deck occupants. See the MCAI for additional background information.

Comments

The FAA gave the public the opportunity to participate in developing this final rule. The following presents the comments received on the NPRM and the FAA's response to each comment.

Support for the NPRM

The Air Line Pilots Association, International (ALPA) indicated its support for the NPRM.

Request To Revise Applicability

NetJets submitted two requests to revise the applicability of the proposed AD. The commenter's first request was to exclude Bombardier Model CL-650 airplanes having serial numbers 6071 and subsequent. The commenter provided a page from the Bombardier Model CL-650 Illustrated Parts Catalog, which shows that the USB part number delivered on airplanes with those serial numbers is not the affected USB part number addressed in the proposed AD. The commenter submitted a subsequent request asking that all Model CL-650 airplanes be removed from the applicability of the proposed AD. The commenter stated that it had conducted additional research and provided a list of airplane models that have the affected USB part installed that was created by Fokker and only one Bombardier Model CL-650 airplane, having serial number (S/N) 5651, has the affected part installed.

The FAA acknowledges the commenter's observation that a limited number of Bombardier Model CL-650 airplanes (also known as Challenger 650 airplanes; a marketing designation for the Model CL-600-2B16 (604 Variant) airplanes beginning with S/N 6050 and subsequent) may have the affected part installed. However, the FAA does not agree with the commenter's request to revise the applicability of this AD. Since some of the CL-600-2B16 (604 Variant) airplanes may have the affected part installed, the requirements of this AD apply to those airplanes. The FAA has determined that it is the operators' responsibility to conduct the necessary review to determine if an airplane in its fleet is affected by the requirements of this AD. This AD applies to the airplanes identified in figure 1 to paragraph (c) of this AD, having an affected part (defined in paragraph (g) of this AD) installed as specified in the applicable service information identified in in figure 1 to paragraph (c) of this AD. The FAA has not revised this AD regarding this issue.

Request To Allow Records Review

NetJets requested that the proposed AD include a provision to allow operators to do a records review to determine which airplanes have the affected USB part installed.

The commenter provided pages from the Bombardier Model CL-650 Illustrated Parts Catalog and pointed out that specific serial numbers of Bombardier Model CL-650 airplanes were delivered with factory-installed USB ports and are not affected by the modification specified in the proposed AD.

The FAA acknowledges the commenter's request. However, while the manufacturers Illustrated Parts Catalog is a valuable tool for operators to order replacement parts, it is not an FAA approved document that identifies an airplane delivered type design configuration. A records review is one way of determining if the affected part is installed on an airplane if the review can conclusively identify the affected part. Paragraph (h) of this AD requires modification of affected parts; this AD does not specify any required method for determining that an affected part is installed on an airplane. Therefore, operators can do an appropriate records review or they can inspect the airplane to determine if the affected part is installed. The FAA has not revised this AD regarding this issue.

Request To Include Supplemental Type Certificate (STC) Number

Net Jets requested that the proposed AD include the STC number for any USB receptacle that was installed on an airplane using the FAA-approved STC process. The commenter observed that including the STC number would aid in its research to determine which airplanes in its fleet would be affected by the requirements specified in the proposed AD.

The FAA acknowledges the commenter's request. Figure 1 to paragraph (c) of this AD already includes the applicable STC numbers for USB receptacles installed using the FAA-approved STC process. Because a USB receptacle could have been installed using a means other than an STC, it is the operator's responsibility to conduct the review necessary to determine if an airplane in its fleet is affected by the requirements of this AD. The FAA has not revised this AD regarding this issue.

Conclusion

The FAA reviewed the relevant data, considered the comments received, and determined that air safety and the public interest require adopting this final rule as proposed, except for minor editorial changes. The agency has determined that these minor changes:

• Are consistent with the intent that was proposed in the NPRM for addressing the unsafe condition; and

• Do not add any additional burden upon the public than was already proposed in the NPRM.

Related Service Information Under 1 CFR Part 51

Fokker Services B.V. has issued the following service information, which describes procedures for modifying the electronic flight bag USB receptacles located in the flight deck, including current limiting and overheat protection. These documents are distinct since they apply to different airplane models.

• Fokker Services F28 Generic Service Bulletin SBF28-46-002, Revision 0, dated July 27, 2018.

• Fokker Services F50/60 Generic Service Bulletin SBF50-46-006, Revision 0, dated July 27, 2018.

• Fokker Services F100/700 Generic Service Bulletin SBF100-46-008, Revision 0, dated July 27, 2018.

• Fokker Services Engineering Bulletin EBA320-0167, Revision 2, Sequence 4, dated December 13, 2018.

• Fokker Services Engineering Bulletin EBA330-0011, Revision 0, Sequence 9, dated July 27, 2018.

• Fokker Services Engineering Bulletin EBA340-0005, Revision 0, Sequence 8, dated July 27, 2018.

• Fokker Services Engineering Bulletin EBAT72-0013, Revision 0, Sequence 7, dated July 27, 2018.

• Fokker Services Engineering Bulletin EBB737-0156, Revision 3, Sequence 3, dated February 25, 2019.

• Fokker Services Engineering Bulletin EBB757-0020, Revision 1, Sequence 3, dated October 2, 2018.

• Fokker Services Engineering Bulletin EBB767-0023, Revision 1, Sequence 3, dated October 3, 2018.

• Fokker Services Engineering Bulletin EBB777-0009, Revision 1, Sequence 3, dated October 3, 2018.

• Fokker Services Engineering Bulletin EBCL60-0010, Revision 1, Sequence 3, dated August 30, 2018.

• Fokker Services Engineering Bulletin EBDHC8-0035, Revision 1, Sequence 4, dated December 13, 2018.

This service information is reasonably available because the interested parties have access to it through their normal course of business or by the means identified in the ADDRESSES section.

Costs of Compliance

The FAA estimates that this AD affects 14 airplanes of U.S. registry. The FAA estimates the following costs to comply with this AD:

Estimated Costs for Required Actions *
Labor cost | Parts cost | Cost per product | Cost on U.S. operators
3 work-hours × $85 per hour = $255 | $0 | $255 | $3,570
* The FAA has received no definitive data on the parts costs for the required actions.

According to the manufacturer, some or all of the costs of this AD may be covered under warranty, thereby reducing the cost impact on affected individuals. The FAA does not control warranty coverage for affected individuals. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-20-03 Transport Category Airplanes: Amendment 39-19756; Docket No. FAA-2019-0444; Product Identifier 2019-NM-028-AD.

(a) Effective Date

This AD is effective November 19, 2019.

(b) Affected ADs

None.

(c) Applicability

This AD applies to the airplanes identified in figure 1 to paragraph (c) of this AD, certificated in any category, having an affected part (defined in paragraph (g) of this AD) installed as specified in the applicable service information identified in figure 1 to paragraph (c) of this AD.

BILLING CODE 4910-13-P

BILLING CODE 4910-13-C

(d) Subject

Air Transport Association (ATA) of America Code 46, Information systems.

(e) Reason

This AD was prompted by reports of smoke and fumes in the flight deck. The FAA is issuing this AD to address smoke and fumes in the flight deck, which could result in excessive flightcrew workload and injury to flight deck occupants.

(f) Compliance

Comply with this AD within the compliance times specified, unless already done.

(g) Definition

For the purpose of this AD, an “affected part” is a universal serial bus (USB) receptacle manufactured by Lone Star Aviation, Corporation, having part number LS03-05050-A.

(h) Modification

Within 12 months after the effective date of this AD, modify each affected part in accordance with the Accomplishment Instructions of the applicable Fokker Services B.V. service information identified in paragraphs (h)(1) through (13) of this AD.

(1) Fokker Services Engineering Bulletin EBA320-0167, Revision 2, Sequence 4, dated December 13, 2018.

(2) Fokker Services Engineering Bulletin EBA330-0011, Revision 0, Sequence 9, dated July 27, 2018.

(3) Fokker Services Engineering Bulletin EBA340-0005, Revision 0, Sequence 8, dated July 27, 2018.

(4) Fokker Services Engineering Bulletin EBAT72-0013, Revision 0, Sequence 7, dated July 27, 2018.

(5) Fokker Services Engineering Bulletin EBB737-0156, Revision 3, Sequence 3, dated February 25, 2019.

(6) Fokker Services Engineering Bulletin EBB757-0020, Revision 1, Sequence 3, dated October 2, 2018.

(7) Fokker Services Engineering Bulletin EBB767-0023, Revision 1, Sequence 3, dated October 3, 2018.

(8) Fokker Services Engineering Bulletin EBB777-0009, Revision 1, Sequence 3, dated October 3, 2018.

(9) Fokker Services Engineering Bulletin EBCL60-0010, Revision 1, Sequence 3, dated August 30, 2018.

(10) Fokker Services Engineering Bulletin EBDHC8-0035, Revision 1, Sequence 4, dated December 13, 2018.

(11) Fokker Services F28 Generic Service Bulletin SBF28-46-002, Revision 0, dated July 27, 2018.

(12) Fokker Services F50/60 Generic Service Bulletin SBF50-46-006, Revision 0, dated July 27, 2018.

(13) Fokker Services F100/700 Generic Service Bulletin SBF100-46-008, Revision 0, dated July 27, 2018.

(i) Parts Installation Prohibition

After modification of an airplane as required by paragraph (h) of this AD, no person may install an affected part on that airplane.

(j) Credit for Previous Actions

This paragraph provides credit for the actions specified in paragraph (h) of this AD, if those actions were performed before the effective date of this AD using the applicable service information specified in paragraphs (j)(1) through (7) of this AD.

(1) Fokker Services Engineering Bulletin EBA320-0167, Revision 1, dated August 30, 2018.

(2) Fokker Services Engineering Bulletin EBDHC8-0035, Revision 0, dated July 27, 2018.

(3) Fokker Services Engineering Bulletin EBB737-0156, Revision 1, dated August 30, 2018.

(4) Fokker Services Engineering Bulletin EBB737-0156, Revision 2, dated October 3, 2018.

(5) Fokker Services Engineering Bulletin EBB757-0020, Revision 0, dated July 27, 2018.

(6) Fokker Services Engineering Bulletin EBB767-0023, Revision 0, dated July 27, 2018.

(7) Fokker Services Engineering Bulletin EBB777-0009, Revision 0, dated July 27, 2018.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Fokker Services B.V.'s EASA Design Organization Approval (DOA). If approved by the DOA, the approval must include the DOA-authorized signature.

(l) Related Information

(1) Refer to Mandatory Continuing Airworthiness Information (MCAI) EASA AD 2018-0259R1, dated February 7, 2019, for related information. This MCAI may be found in the AD docket on the internet at http://www.regulations.gov by searching for and locating Docket No. FAA-2019-0444.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Services Engineering Bulletin EBA320-0167, Revision 2, Sequence 4, dated December 13, 2018.

(ii) Fokker Services Engineering Bulletin EBA330-0011, Revision 0, Sequence 9, dated July 27, 2018.

(iii) Fokker Services Engineering Bulletin EBA340-0005, Revision 0, Sequence 8, dated July 27, 2018.

(iv) Fokker Services Engineering Bulletin EBAT72-0013, Revision 0, Sequence 7, dated July 27, 2018.

(v) Fokker Services Engineering Bulletin EBB737-0156, Revision 3, Sequence 3, dated February 25, 2019.

(vi) Fokker Services Engineering Bulletin EBB757-0020, Revision 1, Sequence 3, dated October 2, 2018.

(vii) Fokker Services Engineering Bulletin EBB767-0023, Revision 1, Sequence 3, dated October 3, 2018.

(viii) Fokker Services Engineering Bulletin EBB777-0009, Revision 1, Sequence 3, dated October 3, 2018.

(ix) Fokker Services Engineering Bulletin EBCL60-0010, Revision 1, Sequence 3, dated August 30, 2018.

(x) Fokker Services Engineering Bulletin EBDHC8-0035, Revision 1, Sequence 4, dated December 13, 2018.

(xi) Fokker Services F28 Generic Service Bulletin SBF28-46-002, Revision 0, dated July 27, 2018.

(xii) Fokker Services F50/60 Generic Service Bulletin SBF50-46-006, Revision 0, dated July 27, 2018.

(xiii) Fokker Services F100/700 Generic Service Bulletin SBF100-46-008, Revision 0, dated July 27, 2018.

(3) For service information identified in this AD, contact Fokker Services B.V., Technical Services Dept., P.O. Box 1357, 2130 EL Hoofddorp, the Netherlands; telephone +31 (0)88-6280-350; fax +31 (0)88-6280-111; email technicalservices@fokker.com; internet http://www.myfokkerfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov or go to: http://www.archives.gov/federal-register/cfr/ibr-locations.html.

Issued in Des Moines, Washington, on September 27, 2019.
Michael Kaszycki,
Acting Director, System Oversight Division, Aircraft Certification Service.

[FR Doc. 2019-22389 Filed 10-11-19; 8:45 am]

BILLING CODE 4910-13-P